DEPARTMENT OF AGRICULTURE

Rural Utilities Service

7 CFR Part 1728

Specifications and Drawings for 12.47/7.2 kV Line Construction

AGENCY: Rural Utilities Service, USDA.

ACTION: Proposed rule.

SUMMARY: The Rural Utilities Service (RUS) is proposing to revise its regulations regarding RUS Bulletin 50-3, Specifications and Drawings for 12.5/7.2 kV Line Construction. This bulletin is currently incorporated by reference in RUS regulations and the revised and renumbered RUS Bulletin 1728F-804 would continue to be incorporated by reference. This rule is necessary to provide the latest RUS specifications, materials, equipment, and construction methods for RUS electric borrowers to construct their rural overhead electric distribution systems. RUS proposes to update, renumber and reformat this bulletin in accordance with the agency's new publications and directives system.

DATES: Written comments must be received by RUS or carry a postmark or equivalent no later than April 12, 2004.

ADDRESSES: You may submit comments by any of the following methods:

• E-mail: RUSComments@usda.gov. Include in the subject line of the message “Specifications and Drawings for 12.47/7.2 kV Line Construction.” The e-mail must identify, in the text of the message, the name of the individual (and name of the entity if applicable) who is submitting the comment.

• Mail: Addressed to Richard Annan, Acting Director, Program Development and Regulatory Analysis, Rural Utilities Service, United States Department of Agriculture, 1400 Independence Avenue, SW., STOP 1522. Washington, DC 20250-1522.

• Hand Delivery/Courier: Addressed to Richard Annan, Acting Director, Program Development and Regulatory Analysis, Rural Utilities Service, United States Department of Agriculture, 1400 Independence Avenue, SW., Room 5168-S, Washington, DC 20250-1522. RUS requires, in hard copy, a signed original and 3 copies of all written comments (7 CFR 1700.4). Comments will be available for public inspection during normal business hours (7 CFR part 1).

FOR FURTHER INFORMATION CONTACT: Mr. James L. Bohlk, Electric Engineer, Distribution Branch, Electric Staff Division, Rural Utilities Service, U.S. Department of Agriculture, 1400 Independence Avenue, SW., STOP 1569, Washington, DC 20250-1569. Telephone: (202) 720-1967. Fax: (202) 720-7491. e-mail: Jim.Bohlk@usda.gov.

Electronic (pdf) copies of this proposed rule and the proposed bulletin are available on the RUS Web site at http://www.usda.gov/rus/electric/regs/index.htm. Electronic and printed copies of this proposed rule and proposed bulletin are also available from Mr. James Bohlk, at the addresses listed.

SUPPLEMENTARY INFORMATION:

Executive Order 12866

This rule is exempted from the Office of Management and Budget (OMB) review for purposes of Executive Order 12866 and, therefore, has not been reviewed by OMB.

Executive Order 12372

This rule is excluded from the scope of Executive Order 12372, Intergovernmental Consultation, which may require consultation with State and local officials. See the final rule related notice titled “Department Programs and Activities Excluded from Executive Order 12372” (50 FR 47034) advising that RUS loans and loan guarantees from coverage were not covered by Executive Order 12372.

Executive Order 12988

This proposed rule has been reviewed under Executive Order 12988, Civil Justice Reform. RUS has determined that this proposed rule meets the applicable standards provided in section 3 of the Executive Order. In addition, all state and local laws and regulations that are in conflict with this rule will be preempted; no retroactive effect will be given to this rule, and, in accordance with section 212(e) of the Department of Agriculture Reorganization Act of 1994 (7 U.S.C. 6912(e)), administrative appeals procedures, if any are required, must be exhausted before any action against the Department or its agencies.

Regulatory Flexibility Act Certification

It has been determined that the Regulatory Flexibility Act is not applicable to this rule since the Rural Utilities Service is not required by 5 U.S.C. 551 et seq. or any other provision of the law to publish a notice of proposed rulemaking with request to the subject matter of this rule.

Information Collection and Recordkeeping Requirements

This rule contains no additional information collection or recordkeeping requirements approval under the Paperwork Reduction Act of 1995 (44 U.S.C. Chapter 35).

Unfunded Mandates

This proposed rule contains no Federal mandates (under the regulatory provision of title II of the Unfunded Mandates Reform Act) for State, local, and tribal governments or the private sector. Thus, this proposed rule is not subject to the requirements of sections 202 and 205 of the Unfunded Mandates Reform Act.

National Environmental Policy Act Certification

The Administrator of RUS has determined that this proposed rule will not significantly affect the quality of human environment as defined by the National Environmental Policy Act of 1969 (42 U.S.C. 4321 et seq.). Therefore, this action does not require an environmental impact statement or assessment.

Catalog of Federal Domestic Assistance

The program described by this proposed rule is listed in the Catalog of Federal Domestic Assistance Programs under No. 10.850, Rural Electrification Loans and Loan Guarantees. This catalog is available on a subscription basis from the Superintendent of Documents, U.S. Government Printing Office, Washington, DC 20402-9325, telephone number (202) 512-1800.

Background

Pursuant to the Rural Electrification Act of 1936, as amended (7 U.S.C. 901 et seq.), the Rural Utilities Service (RUS) is proposing to amend Title 7 CFR Chapter XVII, Part 1728, Electric Standards and Specification for Materials and Construction, by revising RUS Bulletin 50-3 (D-804), “Specification and Drawings for 12.5/7.2 kV Line Construction”. This revised bulletin will be renumbered as RUS Bulletin 1728F-804 and will be re-titled as, “Specification and Drawings for 12.47/7.2 kV Line Construction”. RUS maintains a system of bulletins that contains construction standards and specifications for materials and equipment which must be utilized when system facilities are constructed by RUS electric and telecommunication borrowers in accordance with the RUS loan contract. These standards and specifications contain standard construction units, material, and equipment units used in RUS electric and telecommunication borrowers' systems.

RUS Bulletin 50-3 provides standard construction drawings and specification of 12.5/7.2 kV overhead electric distribution lines. RUS is proposing to change the bulletin number from RUS Bulletin 50-3 (Standard D 804) to RUS Bulletin 1728F-804 (D 804). The change in the bulletin number and reformatting is necessary to conform to RUS new publications and directives system. This proposed rule will incorporate the bulletin by reference in 7 CFR 1728.97.

Proposed Changes to RUS Bulletin 50-3 (D 804)

RUS proposes to make the following changes and additions to current Bulletin 50-3 (D-804). It is proposed that it will be replaced with new Bulletin 1728F-804 in these respects:

(1) The new bulletin would contain a total of 303 assemblies. (An assembly is a construction unit which incorporates the description and quantity of material needed to construct the assembly and a dimensioned schematic diagram showing how the material needs to be arranged or assembled to meet RUS specifications.) Bulletin 50-3 currently contains a total of 255 assemblies. In both bulletins, more than one similar assembly is often depicted on one drawing.

(2) Of the 303 total assemblies in the proposed new bulletin, 146 would be new assemblies and 92 of these new assemblies would be new “narrow profile” assemblies. These 146 new assemblies and 24 new guide drawings would be tabulated in Exhibit 4 in the proposed new Bulletin 1728F-804.

(3) Of the 303 total assemblies in the proposed new bulletin, 91 would be previous standard assemblies with no material changes, 38 would be previous standard assemblies with only a change in the number or type of washers, and 28 would be previous standard assemblies with other slight material changes.

(4) The proposed new bulletin would also contain a total of 46 guide drawings. Present Bulletin 50-3 contains a total of 24 guide drawings. (A guide drawing is a dimensioned schematic diagram that shows details of how the material of one or more assemblies needs to be arranged or assembled to meet RUS specifications but does not list the material required for construction.)

(5) Each of the proposed 303 assemblies and 46 guide drawings in the proposed new bulletin would be given a new number in accordance with the assembly numbering format as updated by RUS in 1998. In the updated numbering format, each character in the assembly or drawing number has a functional meaning.

(6) The 157 standard assemblies and 8 guide drawings of present Bulletin 50-3, which would be redrawn, renumbered, and certain ones re-used in proposed new Bulletin 1728F-804 and identified in Exhibit 3. The new Bulletin 1728F-804 would label the new revised assemblies with new numbers and would also show in parentheses the prior numbers as presently labeled in Bulletin 50-3. RUS would allow the borrowers to use either assembly number only for these 165 standard assemblies and guide drawings. The borrower would be required to use the assemblies as depicted.

(7) The proposed new bulletin would be reformatted into 19 separate sections or categories. Each section would contain an index of drawings and also the construction drawings of assemblies designed to perform a similar function. Several sections would contain construction specifications pertaining to the assemblies in that section.

(8) New tables would be added in the proposed new bulletin that define maximum line angles, permitted unbalanced conductor tensions, and soil classification data.

(9) Exhibit 1 would be added at the end of the proposed new bulletin to document the formula and data used to determine the line angles in the tables. Also, Exhibit 2 would be added at the end of the proposed new bulletin to document the formula and data used to determine permitted unbalanced conductor tensions.

(10) Each proposed drawing would be given a new, uniform, shorter, and more descriptive title. Each proposed drawing would have a new, uniform title block that would contain, when applicable, the primary voltage and number of phases of the depicted assemblies.

(11) “Design parameters” which define and usually limit maximum line angles or mechanical loading (tension) would be added, when applicable, to the drawings of the proposed new bulletin.

RUS proposes to discontinue 98 assemblies and 16 guide drawings presently contained in Bulletin 50-3 for one or more of the following reasons:

• They contain material no longer accepted by RUS for use by RUS borrowers,

• The spacing or strength of the material and equipment no longer meets the minimum requirements of RUS or the National Electrical Safety Code (NESC),

• They contain technical errors such as a neutral conductor support that is not coordinated with the primary conductor support,

• They are redundant of other assemblies or for other reasons may no longer be needed, or

• They require so many modifications that they need to be discontinued and subsequently replaced with new assemblies.

The proposed disposition of the 279 assemblies and guide drawings are tabulated in Exhibit 3 in the proposed new bulletin.

RUS also proposes to modify and add to the construction specifications in Bulletin 50-3 and to incorporate these changes and additions in proposed new Bulletin 1728F-804. The proposed significant new modifications and additions include the following:

(1) Compliance and specific references to the NESC,

(2) Definitions of and provisions to use large and extra large conductors,

(3) Permission to lower neutral conductor under specific circumstances,

(4) Requirement to use washers under shoulder of crossarm pins,

(5) Requirement to use 3-inch (minimum) square, curved, washer for primary, neutral and guys deadending on poles,

(6) Requirement to multiply applied loads by appropriate NESC overload factors,

(7) Minimum insulated spacing (wood and fiberglass) between primary conductors and guys,

(8) Choice of arrester location on transformer assemblies,

(9) Requirement that all secondary and service wires be covered conductors,

(10) Permission to use stirrups provided certain given criteria are met, and

(11) New rights-of-ways clearing specifications.

List of Subjects in 7 CFR Part 1728

Electric power, Incorporation by reference, Loan programs-energy, Rural areas.

For reasons set out in the preamble, chapter XVII of title 7 of the Code of Federal Regulations, is proposed to be amended as follows:

PART 1728—ELECTRIC STANDARDS AND SPECIFICATIONS FOR MATERIALS AND CONSTRUCTION

1. The authority citation for part 1728 continues to read as follows:

Authority: 7 U.S.C. 901 et seq.; 7 U.S.C. 1921 et seq.; 6941 et seq.

2. Section 1728.97 is amended by revising:

A. The second sentence in paragraph (a), and

B. Revising paragraph (b) by removing the entries for Bulletin 50-3 and Bulletin 50-6; and adding to the list of bulletins, in numerical order, the entry for Bulletin 1728F-804.

These revisions are to read as follows:

§ 1728.97 Incorporation by reference of electric standards and specifications.

(a) * * * The bulletins containing construction standards (50-4 and 1728F-803 to 1728F-811), may be purchased from the Superintendent of Documents, U.S. Government Printing Office, Washington, DC 20402. * * *

* * * * *

(b) List of Bulletins.

* * * * *

Bulletin 1728F-804 (D-804), Specification and Drawings for 12.47/7.2 kV Line Construction ([Month and year of effective date of final rule]).

* * * * *

Dated: January 30, 2004.
Hilda Gay Legg,
Administrator, Rural Utilities Service.

[FR Doc. 04-3114 Filed 2-11-04; 8:45 am]

BILLING CODE 3410-15-P